DEPARTMENT OF STATE

[Public Notice 5319]

Title: Summer Work/Travel 12-month Pilot Program

AGENCY: Department of State.

ACTION: Notice with Request for Comment.

DATES: The Department will accept comments from the public up to 60 days from February 27, 2006.

FOR FURTHER INFORMATION CONTACT: Stanley S. Colvin, Director, Office of Exchange Coordination and Designation, U.S. Department of State, SA-44, 301 4th St., SW., Room 734, Washington, DC 20547. E-mail: jexchanges@state.gov; FAX: 202-203-5087.

SUMMARY: The Department hereby announces its intent to investigate the possible adoption of a pilot program that will provide foreign university students an opportunity to work and travel in the United States for up to 12 months.

The Conference Report (H. Rep. 108-792) that accompanied The Departments of Commerce, Justice, and State, the Judiciary, and Related Agencies Appropriation Act, 2005, H.R. 4818, Public Law 108-447, incorporated by reference certain language set forth in S. Rep. 108-344, that accompanied S. 2809. In that report, the Senate Committee on Appropriations directed the Department as follows:

”Working Exchanges—The Committee directs the Department of State to work with the Governments of Australia, Canada, and New Zealand to establish bilateral exchange programs that will allow young people from these countries to visit the United States for a period of up to 1 year for purposes of work and travel and vice versa. The United States has long enjoyed close and valuable exchange relationships with Australia, Canada, and New Zealand. The bilateral relationships between the United States and these countries would be further strengthened by expanding opportunities for young people to visit each other's countries for an extended period. The Committee directs the Department to work within current regulatory frameworks governing the exchange visitor programs, and specifically the summer work travel program, administered by the Bureau of Educational and Cultural Affairs. The Committee recognizes the work of the Ministry of Foreign Affairs of the Government of New Zealand in raising the visibility of this promising program called “Working Holiday Schemes,” within the United States Government.”

To further the above stated directive and better inform its decision making, the Department hereby solicits comment and proposals on the design of a pilot program that will provide a 12-month period of work and travel that will operate within existing summer work travel program regulations set forth at 22 CFR 62.32. Of specific interest to the Department is the selection of eligible university students and how their participation will affect their student status in their home country. Also of interest to the Department is the placement and monitoring of participants in a manner that will satisfy the requirements of the PATRIOT Act.

Dated: February 21, 2006.
Stanley S. Colvin,
Director, Office of Exchange Coordination and Designation, Bureau of Educational and Cultural Affairs, Department of State.

[FR Doc. E6-2722 Filed 2-24-06; 8:45 am]

BILLING CODE 4710-05-P